DEPARTMENT OF ENERGY

Federal Energy Regulatory Commission

[Project No. 13220-000]

Pacific Gas and Electric Company; Notice of Preliminary Permit Application Accepted for Filing and Soliciting Comment, Motions To Intervene, and Competing Applications

July 10, 2008.

On May 7, 2008, Pacific Gas and Electric Company filed an application, pursuant to section 4(f) of the Federal Power Act (FPA), proposing to study the feasibility of the Kings River Pumped Storage Project to be located in Fresno County, California on private and federal land managed by the U.S. Forest Service.

The proposed project would consist of one of the following two possible designs: (1) (i) A dam in the Lost Canyon area 200 ft high and 700 ft long; (ii) a reservoir with a surface elevation of 7,720 ft and an estimated storage capacity of 15,695 acre-feet, (iii) an 8,000 foot long power tunnel including intake structure, penstock, and tailrace; (2) (i) A dam in the Lower Short Hair Creek area with a height of 175 ft high and length of 1,700 ft; (ii) a reservoir with full pool elevation of 8,245 ft and storage capacity of 16,290 acre-feet; (iii) a 14,000 foot long power tunnel including intake structure, penstock, and tailrace; (3) the existing Wishon reservoir, with a surface area of 1,025 acres, storage capacity of 128,639, and a normal water surface elevation of 6,550 feet, would act as the lower reservoir for either proposed plan; (4) a powerhouse with a total installed capacity from 380-1140 MW; (5) a transmission line between 2,000 and 5,000 feet long and of 230 or 500 kV and; (6) appurtenant facilities. The proposed project would have an annual production between 304 and 912 GWh.

Applicant Contact: Mr. Randal S. Livingston, 245 Market Street, N11E-1137, San Francisco, CA 94105, (415) 973-6950.

FERC Contact: Steven Sachs, (202) 502-8666.

Deadline for filing comments, motions to intervene, competing applications (without notices of intent), or notices of intent to file competing applications: 60 days from the issuance of this notice.

Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426.

For more information on how to submit these types of filings please go to the Commission's Web site located at http://www.ferc.gov/filing-comments.asp. More information about this project can be viewed or printed on the “eLibrary” link of the Commission's Web site at http://www.ferc.gov/docs-filing/elibrary.asp. Enter the docket number (P-13220) in the docket number field to access the document. For assistance, call toll-free 1-866-208-3372.

Kimberly D. Bose,
Secretary.

[FR Doc. E8-16294 Filed 7-16-08; 8:45 am]

BILLING CODE 6717-01-P